DEPARTMENT OF DEFENSE

Office of the Secretary

National Commission on the Future of the Army; Notice of Federal Advisory Committee Meeting

AGENCY: Deputy Chief Management Officer, Department of Defense (DoD).

ACTION: Notice of Federal Advisory Committee Meeting.

SUMMARY: The DoD is publishing this notice to announce a meeting of the National Commission on the Future of the Army (“the Commission”). The meeting will be open to the public.

DATES: Date of the Open Meeting: Thursday, July 9, 2015, from 3 p.m. to 5 p.m.

ADDRESSES: Address of Open Meeting, July 9: Courtyard by Marriott-Killeen, 1721 East Central Texas Expressway, Killeen, Texas 76541.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meeting

During the open meeting on Thursday, July 9, 2015, the Commission will receive updates from sub-committees and hear comments from the public, and immediately afterwards the Commission will discuss topics raised during the organizational and public comment session.

Agendas

July 9, 2015—Open Hearing: The Commission will hear verbal comments from Military Associations, not to exceed thirty minutes, and public, not to exceed five minutes, and immediately afterwards the Commission will discuss topics raised during the Organizational and public comments session.

Meeting Accessibility

Pursuant to 41 CFR 102-3.140 through 102-3.165 and the availability of space, the meeting scheduled for July 9, 2015 from 3 p.m. to 5 p.m. at the Courtyard by Marriott-Killeen is open to the public. Seating is limited and pre-registration is strongly encouraged. Media representatives are also encouraged to register. The closest public parking facility is located on the Hotel grounds. Visitors should keep their belongings with them at all times. The following items are strictly prohibited in the Courtyard by Marriott-Killeen Conference Room: Any pointed object, e.g., knitting needles and letter openers (pens and pencils are permitted); any bag larger than 18″ wide x 14″ high x 8.5″ deep; electric stun guns, martial arts weapons or devices; guns, replica guns, ammunition and fireworks; knives of any size; mace and pepper spray; razors and box cutters.

Written Comments

Pursuant to section 10(a)(3) of the FACA and 41 CFR 102-3.105(j) and 102-3.140, the public or interested organizations may submit written comments to the Commission in response to the stated agenda of the open meeting or the Commission's mission. The Designated Federal Officer (DFO) will review all submitted written statements. Written comments should be submitted to Mr. Donald Tison, DFO, via facsimile or electronic mail, the preferred modes of submission. Each page of the comment must include the author's name, title or affiliation, address, and daytime phone number. All comments received before Thursday, July 2, 2015, will be provided to the Commission before the July 9, 2015, meeting. Comments received after Thursday, July 2, 2015, will be provided to the Commission before its next meeting. All contact information may be found in the FOR FURTHER INFORMATION CONTACT section.

Oral Comments

In addition to written statements, one hour will be reserved for individuals or interest groups to address the Commission on July 9, 2015. Those interested in presenting oral comments to the Commission must summarize their oral statement in writing and submit with their registration. The Commission's staff will assign time to oral commenters at the meeting; no more than five minutes each for individuals. While requests to make an oral presentation to the Commission will be honored on a first come, first served basis, other opportunities for oral comments will be provided at future meetings.

Registration

Individuals and entities who wish to attend the public hearing and meeting on Thursday, July 9, 2015 are encouraged to register for the event with the DFO using the electronic mail and facsimile contact information found in the FOR FURTHER INFORMATION CONTACT section. The communication should include the registrant's full name, title, affiliation or employer, email address, day time phone number. This information will assist the Commission in contacting individuals should it decide to do so at a later date. If applicable, include written comments and a request to speak during the oral comment session. (Oral comment requests must be accompanied by a summary of your presentation.) Registrations and written comments should be typed.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: June 19, 2015.
Aaron Siegel,
Alternate OSD Federal Register Liaison Officer, Department of Defense.

[FR Doc. 2015-15541 Filed 6-24-15; 8:45 am]

BILLING CODE 5001-06-P